DEPARTMENT OF TRANSPORTATION

Federal Aviation Administration

Women in Aviation Advisory Board; Notice of Public Meeting

AGENCY: Federal Aviation Administration (FAA), DOT.

ACTION: Notice of Public meeting.

SUMMARY: This notice announces a meeting of the Women in Aviation Advisory Board (WIAAB).

DATES: The meeting will be held on Tuesday, August 11, 2020, from 9:00 a.m.-4:00 p.m. Eastern Daylight Time.

Requests to attend the meeting must be received by Tuesday, July 28, 2020.

Requests for accommodations to a disability must be received by Tuesday, July 28, 2020.

If you wish to speak during the meeting, you must submit a written copy of your remarks to FAA by Tuesday, July 28, 2020.

Requests to submit written materials to be reviewed during the meeting must be received no later than Tuesday, July 28, 2020.

ADDRESSES: The meeting will be held virtually only. Members of the public who wish to observe the meeting must RSVP by emailing S612WomenAdvisoryBoard@faa.gov. General committee information including copies of the meeting minutes will be available on the WIAAB website at https://www.faa.gov/about/office_org/headquarters_offices/ahr/advisory_committees/women_aviation/.

FOR FURTHER INFORMATION CONTACT: Ms. Angela Anderson, Designated Federal Officer, FAA, at S612WomenAdvisoryBoard@faa.gov. Any committee related request should be sent to the person listed in this section.

SUPPLEMENTARY INFORMATION:

I. Background

WIAAB was created under the Federal Advisory Committee Act (FACA), in accordance with Section 612 of the FAA Reauthorization Act of 2018 (Pub. L. 115-254), to encourage women and girls to enter the field of aviation with the objective of promoting organizations and programs that are providing education, training, mentorship, outreach, and recruitment of women in the aviation industry.

II. Agenda

At the meeting, the agenda will include the following topics:

• Welcome and Introductions

• Overview of FACA

• Member Expectations

• Overview of WIAAB Objectives and Tasking

• Review of Action Items

A detailed agenda will be posted on the WIAAB internet website address listed in the ADDRESSES section at least 15 days in advance of the meeting.

III. Public Participation

The meeting will be open to the public. Please confirm your attendance with the person listed in the FOR FURTHER INFORMATION CONTACT section. Please provide the following information: Full legal name, country of citizenship, and name of your industry association, or applicable affiliation. Anyone that has registered to attend will be notified in a timely manner prior to the meeting.

The U.S. Department of Transportation is committed to providing equal access to this meeting for all participants. If you need alternative formats or services because of a disability, such as sign language, interpretation, or other ancillary aids, please contact the person listed in the FOR FURTHER INFORMATION CONTACT section.

There will be a total of 15 minutes allotted for oral comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the FAA may conduct a lottery to determine the speakers. Speakers are requested to submit a written copy of their prepared remarks for inclusion in the meeting records and for circulation to WIAAB members. All prepared remarks submitted on time will be accepted and considered as part of the record. Any member of the public may present a written statement to the committee at any time. The public may present written statements to WIAAB by emailing the Designated Federal Officer's address listed in the FOR FURTHER INFORMATION CONTACT section.

Issued in Washington, DC, on July 1, 2020.
Angela Anderson,
Senior Advisor, Office of the Assistant Administrator for Human Resource Management, Federal Aviation Administration.

[FR Doc. 2020-14720 Filed 7-7-20; 8:45 am]

BILLING CODE 4910-13-P